DEPARTMENT OF THE INTERIOR

Bureau of Reclamation

Ecosystem Restoration Program Pre-Submittal Workshop for the 2001 Proposal Solicitation Package

AGENCY: Bureau of Reclamation, Interior.

ACTION: Notice of meeting.

SUMMARY: The CALFED Bay-Delta Ecosystem Restoration Program will hold a Pre-Submittal Workshop for the 2001 Proposal Solicitation Package (PSP). This workshop is an opportunity for the public to ask questions regarding the PSP. Adaptive management and conceptual models will be discussed. Shortly after the workshop, CALFED staff will provide a written response to common questions from all attendees at the workshop and those who have received this proposal solicitation package via mail. This will also be posted on the CALFED website at calfed.ca.gov.

DATES: The Pre-Submittal Workshop will be held from 1 p.m. to 4 p.m. on Wednesday, April 12, 2000.

ADDRESSES: The Pre-Submittal Workshop will meet at the Resources Building Auditorium, 1416 Ninth Street, Sacramento, CA 95814.

FOR FURTHER INFORMATION CONTACT: Wendy Halverson Martin, CALFED Bay-Delta Program, at (916) 657-2666. If reasonable accommodation is needed due to a disability, please contact the Equal Employment Opportunity Office at (916) 653-6952 or TDD (916) 653-6934 at least one week prior to the meeting.

SUPPLEMENTARY INFORMATION: The San Francisco Bay/Sacramento-San Joaquin Delta Estuary (Bay-Delta system) is a critically important part of California's natural environment and economy. In recognition of the serious problems facing the region and the complex resource management decisions that must be made, the state of California and the Federal government are working together to stabilize, protect, restore, and enhance the Bay-Delta system. The State and Federal agencies with management and regulatory responsibilities in the Bay-Delta system are working together as CALFED to provide policy direction and oversight for the process.

One area of Bay-Delta management includes the establishment of a joint State-Federal process to develop long-term solutions to problems in the Bay-Delta system related to fish and wildlife, water supply reliability, natural disasters, and water quality. The intent is to develop a comprehensive and balanced plan which addresses all of the resource problems. This effort, the CALFED Bay-Delta Program (Program), is being carried out under the policy direction of CALFED. The Program is exploring and developing a long-term solution for a cooperative planning process that will determine the most appropriate strategy and actions necessary to improve water quality, restore health to the Bay-Delta ecosystem, provide for a variety of beneficial uses, and minimize Bay-Delta system vulnerability. The Ecosystem Restoration Program is a program element of CALFED which is currently soliciting proposals for ecosystem restoration activities.

Dated: March 27, 2000.
Kirk C. Rodgers,
Deputy Regional Director, Mid-Pacific Region, Bureau of Reclamation, Department of the Interior.

[FR Doc. 00-7948 Filed 3-30-00; 8:45 am]

BILLING CODE 4310-94-M